FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
December 1, 2019 Thru December 31, 2019
12/02/2019
20200209 | G | PAR Investment Partners, L.P.; Expedia Group, Inc.; PAR Investment Partners, L.P.
20200252 | G | Goldman Sachs Renewable Power LLC; Clean Focus Yield Limited; Goldman Sachs Renewable Power LLC.
20200254 | G | ABRY Partners IX, L.P.; Genossenschaft Constanter; ABRY Partners IX, L.P.
20200257 | G | Platinum Equity Capital Partners V, L.P.; Centerfield Media Parent, Inc.; Platinum Equity Capital Partners V, L.P.
20200259 | G | Gores Holdings III, Inc.; Shay Holding Corporation; Gores Holdings III, Inc.
20200265 | G | Georgia's Own Credit Union; DOCO Credit Union; Georgia's Own Credit Union.
12/03/2019
20200268 | G | Stonepeak Infrastucture Fund III (AIV I) LP; Targa Resources Corp.; Stonepeak Infrastucture Fund III (AIV I) LP.
20200271 | G | Minnesota Mutual Companies, Inc.; Empyrean Benefit Solutions, Inc.; Minnesota Mutual Companies, Inc.
20200274 | G | Tokio Marine Holdings, Inc.; Privilege Group Holdings, L.P.; Tokio Marine Holdings, Inc.
20200277 | G | Sequoia Capital Global Growth Fund III—EP, L.P.; Freshworks Inc.; Sequoia Capital Global Growth Fund III—EP, L.P.
20200278 | G | Alphabet Inc.; Freshworks Inc.; Alphabet Inc.
20200296 | G | Starwood Energy Infrastructure Fund III U.S. Investor, L.P.; ArcLight Energy Partners Fund V, L.P.; Starwood Energy Infrastructure Fund III U.S. Investor, L.P.
20200305 | G | Open Text Corporation; Carbonite, Inc.; Open Text Corporation.
12/05/2019
20200033 | G | Apax IX USD L.P.; Polymer Logistics N.V.; Apax IX USD L.P.
20200190 | G | WaterBridge Equity Finance LLC; Blackstone Energy Partners II Q L.P.; WaterBridge Equity Finance LLC.
20200218 | G | The Auto Club Group; Carolina Motor Club, Inc.; The Auto Club Group.
20200255 | G | Daelim Industrial Co., Ltd.; Kraton Corporation; Daelim Industrial Co., Ltd.
20200261 | G | Kaman Corporation; Peter J. Balsells; Kaman Corporation.
20200262 | G | IIF US Holding 2 LP; Bishop Infrastructure S1 L.P.; IIF US Holding 2 LP.
20200275 | G | Fox Corporation; Nexstar Media Group, Inc.; Fox Corporation.
20200282 | G | BBMI Investments, LLC; Phillip W. Pulley; BBMI Investments, LLC.
20200285 | G | Global Infrastructure Solutions Inc.; The Layton Companies, Inc.; Global Infrastructure Solutions Inc.
20200288 | G | General Catalyst Group IX, L.P.; Guild Education, Inc.; General Catalyst Group IX, L.P.
20200290 | G | Digi International Inc.; Opengear, Inc.; Digi International Inc.
20200297 | G | ASP VIII UPF LP; United PF Partners, LLC; ASP VIII UPF LP.
20200308 | G | PayPal Holdings, Inc.; Honey Science Corporation; PayPal Holdings, Inc.
12/06/2019
20200263 | G | OHCP TEM Holdco, L.P.; Telesoft Holdings, LLC; OHCP TEM Holdco, L.P.
20200267 | G | InPhi Corporation; eSilicon Corporation; InPhi Corporation.
20200280 | G | Mizuho Leasing Company, Limited; Aircastle Limited; Mizuho Leasing Company, Limited.
20200286 | G | Canada Pension Plan Investment Board; Riverstone/Carlyle Renewable and Alternative Energy Fund II,; Canada Pension Plan Investment Board.
20200287 | G | Canada Pension Plan Investment Board; Pattern Energy Group, Inc.; Canada Pension Plan Investment Board.
20200294 | G | Allied Universal Topco LLC; Sun Capital Partners VI, L.P.; Allied Universal Topco LLC.
20200312 | G | Blackstone Buzz Holdings L.P.; Andrey Ogandzhanyants; Blackstone Buzz Holdings L.P.
20200313 | G | Kirin Holdings Company, Limited; New Belgium Brewing Company, Inc.; Kirin Holdings Company, Limited.
12/09/2019
20200281 | G | Marubeni Corporation; Aircastle Limited; Marubeni Corporation.
20200293 | G | Givaudan, S.A.; Estate of Kenneth G. Voorhees, Jr.; Givaudan, S.A.
20200315 | G | Universal Corporation; James P. Early; Universal Corporation.
20200316 | G | Sonoco Products Company; ESCO Technologies Inc.; Sonoco Products Company.
20200318 | G | Penelope Group Holdings, LP; Dean V. and Darcy R. Christal; Penelope Group Holdings, LP.
20200324 | G | Clayton, Dubilier & Rice Fund X, L.P.; Hologic, Inc.; Clayton, Dubilier & Rice Fund X, L.P.
20200339 | G | Acciona, S.A.; Nordex SE; Acciona, S.A.
20200344 | G | Harry B. Matthews, Jr. Revocable Trust; LFJR 2012 Dynasty LP; Harry B. Matthews, Jr. Revocable Trust.
20200345 | G | RCP Artemis Co-Invest, LP; Ladenburg Thalmann Financial Services Inc.; RCP Artemis Co-Invest, LP.
20200355 | G | Genstar BI Gen Holdings, L.P.; UnitedHealth Group Incorporated; Genstar BI Gen Holdings, L.P.
2/11/2019
20200283 | G | Preservation Freehold Company; John F. Taylor; Preservation Freehold Company.
20200289 | G | HMS Holdings Corp.; AP VIII Olympus VoteCo, LLC; HMS Holdings Corp.
20200326 | G | Trident VII, L.P.; PHR Holding Company, L.P.; Trident VII, L.P.
20200332 | G | ACON Equity Partners IV, L.P.; Saw Mill Capital Partners, LP; ACON Equity Partners IV, L.P.
20200333 | G | Chicago Pacific Founders Fund II, LP; Andrew Smith; Chicago Pacific Founders Fund II, LP.
20200334 | G | Chicago Pacific Founders Fund II, LP; Peter Smith; Chicago Pacific Founders Fund II, LP.
12/12/2019
20200089 | G | Thoma Bravo Fund XIII-A, L.P.; XIO Platinum LP; Thoma Bravo Fund XIII-A, L.P.
12/13/2019
20200291 | G | Roivant Sciences Ltd.; Roivant Sciences Ltd.; Roivant Sciences Ltd.
20200292 | G | Sumitomo Chemical Co., Ltd.; Roivant Sciences Ltd.; Sumitomo Chemical Co., Ltd.
20200335 | G | Acerinox S.A.; Lindsay Goldberg IV, L.P.; Acerinox S.A.
20200337 | G | Arbor Investments IV, L.P.; The PNC Financial Services Group, Inc.; Arbor Investments IV, L.P.
20200346 | G | LCI Industries; Audax Private Equity Fund IV, L.P.; LCI Industries.
20200357 | G | LLCP LMM GP, LLC; Resolution Economics Group LLC; LLCP LMM GP, LLC.
12/16/2019
20191386 | G | Roche Holding Ltd; Spark Therapeutics, Inc.; Roche Holding Ltd.
12/17/2019
20200338 | G | Railtrust Holdings Limited; Generate Capital, Inc.; Railtrust Holdings Limited.
20200360 | G | KKR Americas Fund XII (Neptune), L.P.; Caroline Hunt Trust Estate; KKR Americas Fund XII (Neptune), L.P.
20200363 | G | Agnaten SE; Kylie K. Jenner; Agnaten SE.
20200367 | G | Alphabet Inc.; Duolingo, Inc.; Alphabet Inc.
20200369 | G | RCAF VII AIV I, L.P.; Renovus Capital Partners II, L.P.; RCAF VII AIV I, L.P.
20200370 | G | Halifax Capital Partners IV, L.P.; TriMech Holdings, LLC; Halifax Capital Partners IV, L.P.
20200373 | G | Verisk Analytics, Inc.; FAST HoldCo, LLC; Verisk Analytics, Inc.
20200377 | G | Daniele Holdco LLC; Creminelli Fine Meats, LLC; Daniele Holdco LLC.
20200378 | G | GFL Environmental Holdings, Inc.; Scott T. Earl; GFL Environmental Holdings, Inc.
20200379 | G | PRA Health Sciences, Inc.; Essence International Financial Holdings (Hong Kong) Limited; PRA Health Sciences, Inc.
20200384 | G | Trident VII, L.P.; The Goldman Sachs Group, Inc.; Trident VII, L.P.
12/18/2019
20200272 | G | Madison Dearborn Capital Partners VII-A, L.P.; Realogy Holdings Corp.; Madison Dearborn Capital Partners VII-A, L.P.
20200307 | G | Lindsay Goldberg IV-A Pixelle AIV L.P.; Verso Corporation; Lindsay Goldberg IV-A Pixelle AIV L.P.
20200366 | G | Doosan Infracore Co., Ltd.; Jeffrey E Perelman; Doosan Infracore Co., Ltd.
20200368 | G | Silver Lake Partners V DE (AIV), L.P.; STG III, L.P.; Silver Lake Partners V DE (AIV), L.P.
20200376 | G | Novartis AG; The Medicines Company; Novartis AG.
12/20/2019
20191753 | G | Performance Food Group Company; Reyes Holdings, L.L.C.; Performance Food Group Company.
20200192 | G | Bon Secours Mercy Ministries; Community Health Systems Inc.; Bon Secours Mercy Ministries.
20200303 | G | Ford Motor Company; Rivian Automotive, Inc.; Ford Motor Company.
20200304 | G | Nippon Telegraph and Telephone Corporation; Jolly Somaiya; Nippon Telegraph and Telephone Corporation.
20200311 | G | Purpose Domains Feeder I, LP; INTERNET SOCIETY; Purpose Domains Feeder I, LP.
20200362 | G | Sequoia Capital Global Growth Fund III—Endurance Partners; Unity Software Inc.; Sequoia Capital Global Growth Fund III—Endurance Partners.
20200388 | G | Advance Auto Parts, Inc.; Edward S. Lampert; Advance Auto Parts, Inc.
20200390 | G | Apollo Natural Resources Partners II, L.P.; SPX Flow, Inc.; Apollo Natural Resources Partners II, L.P.
20200399 | G | George Ruan; PayPal Holdings, Inc.; George Ruan.
20200405 | G | E-Mart, Inc.; Endeavour Capital Fund V, L.P.; E-Mart, Inc.
20200406 | G | Novacap Industries IV, L.P.; Landon Bush AIV, LLC; Novacap Industries IV, L.P.
20200413 | G | Keith Campbell; William J.P. Carstarphen; Keith Campbell.
20200414 | G | Reliance Steel & Aluminum Co.; Fry Steel Company; Reliance Steel & Aluminum Co.
12/23/2019
20200365 | G | Cubic Corporation; Brandon Freeman; Cubic Corporation.
20200374 | G | Atlas Corp.; Fairfax Financial Holdings Limited; Atlas Corp.
20200380 | G | Angold Trust; Ribbon Communications Inc.; Angold Trust.
20200386 | G | Astorg VII SLP; KKR Blue Co-Invest L.P.; Astorg VII SLP.
20200387 | G | Seventh Cinven Fund (No. 1) Limited; KKR Blue Co-Invest L.P.; Seventh Cinven Fund (No. 1) Limited.
20200401 | G | AF V Energy II Delaware Feeder B, L.P.; SCM Ultimate Topco, LLC; AF V Energy II Delaware Feeder B, L.P.
20200411 | G | Temasek Holdings (Private) Limited; Coherus BioSciences, Inc.; Temasek Holdings (Private) Limited.
20200412 | G | Monocle Acquisition Corporation; Green Equity Investors V, L.P.; Monocle Acquisition Corporation.
20200419 | G | Astellas Pharma, Inc.; Audentes Therapeutics, Inc.; Astellas Pharma, Inc.
12/30/2019
20200342 | G | Tenex Capital Partners II, L.P.; G2 Secure Staff, L.L.C.; Tenex Capital Partners II, L.P.
20200417 | G | Fortum Oyj; Uniper SE; Fortum Oyj.
12/31/2019
20200424 | G | Wheels Up Partners Holdings LLC; Delta Air Lines, Inc.; Wheels Up Partners Holdings LLC.

FOR FURTHER INFORMATION CONTACT: Theresa Kingsberry (202-326-3100), Program Support Specialist, Federal Trade Commission Premerger Notification Office, Bureau of Competition, Room CC-5301, Washington, DC 20024.

By direction of the Commission.
April Tabor,
Acting Secretary.

[FR Doc. 2020-00893 Filed 1-21-20; 8:45 am]

BILLING CODE 6750-01-P